ENVIRONMENTAL PROTECTION AGENCY

[EPA-HQ-OAR-2023-0108; FRL-12619-01-OMS]

Agency Information Collection Activities; Submission to the Office of Management and Budget for Review and Approval; Comment Request; NSPS for Bulk Gasoline Terminals (Renewal)

AGENCY: Environmental Protection Agency (EPA).

ACTION: Notice.

SUMMARY: The Environmental Protection Agency (EPA) has submitted an information collection request (ICR), NSPS for Bulk Gasoline Terminals (EPA ICR Number 0664.14, OMB Control Number 2060-0006) to the Office of Management and Budget (OMB) for review and approval in accordance with the Paperwork Reduction Act. This is a proposed extension of the ICR, which is currently approved through February 28, 2025. Public comments were previously requested via the Federal Register on May 18, 2023 during a 60-day comment period. This notice allows for an additional 30 days for public comments.

DATES: Comments may be submitted on or before March 31, 2025.

ADDRESSES: Submit your comments, referencing Docket ID Number EPA-HQ-OAR-2023-0108, to EPA online using www.regulations.gov (our preferred method), by email to a-and-r-docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division, Office of Air Quality Planning and Standard, D243-05, Environmental Protection Agency, 1200 Pennsylvania Ave. NW, Washington, DC 20460; telephone number: (919) 541-0833; email address: ali.muntasir@epa.gov.

SUPPLEMENTARY INFORMATION: This is a proposed extension of the ICR, which is currently approved through February 28, 2025. An agency may not conduct or sponsor and a person is not required to respond to a collection of information unless it displays a currently valid OMB control number.

Public comments were previously requested via the Federal Register on May 18, 2023 during a 60-day comment period (88 FR 31748). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The New Source Performance Standards (NSPS) for Bulk Gasoline Terminals (40 CFR part 60, subpart XX) were proposed December 17, 1980; promulgated on August 18, 1983; and most recently amended on February 24, 2024. These regulations apply to the total of all loading racks at bulk gasoline terminals, which deliver liquid product into gasoline tank trucks, and for which construction, modification, or reconstruction commenced after the date of proposal. A bulk gasoline terminal is any gasoline facility which receives gasoline by pipeline, ship, or barge, and has a gasoline throughput greater than 75,700 liters per day. The affected facility includes the loading arms, pumps, meters, shutoff valves, relief valves, and other piping and valves necessary to fill delivery tank trucks. New facilities include those that commenced either construction, or modification, or reconstruction after December 17, 1980, and on or before June 10, 2022. Sources that commence construction, modification, or reconstruction after June 10, 2022 will be subject to 40 CFR part 60, subpart XXa, which is accounted for under EPA ICR number 2720.01. This ICR does not account for burden associated with 40 CFR part 60, subpart XXa. This information is being collected to assure compliance with 40 CFR part 60, subpart XX.

Form Numbers: None.

Respondents/affected entities: Bulk gasoline terminal facilities.

Respondent's obligation to respond: Mandatory (40 CFR part 60, subpart XX).

Estimated number of respondents: 214 (total).

Frequency of response: Annually.

Total estimated burden: 70,900 hours (per year). Burden is defined at 5 CFR 1320.03(b).

Total estimated cost: $8,940,000 (per year), which includes $0 annualized capital or operation & maintenance costs.

Changes in the estimates: There is no change of hours in the total estimated respondent burden compared with the ICR currently approved by OMB. This is due to two considerations. First, the regulations have not changed over the past three years and are not anticipated to change over the next three years. Second, the growth rate for this industry is very low or non-existent, so there is no significant change in the overall burden. Since there are no changes in the regulatory requirements and there is no significant industry growth, there are also no changes in the capital/startup or operation and maintenance (O&M) costs.

Courtney Kerwin,
Director, Information Engagement Division.

[FR Doc. 2025-03249 Filed 2-27-25; 8:45 am]

BILLING CODE 6560-50-P